DEPARTMENT OF COMMERCE

Bureau of Industry and Security

15 CFR Parts 736, 740, and 746

[Docket No. 250827-0147]

RIN 0694-AK28

Relaxing Export Controls for Syria

AGENCY: Bureau of Industry and Security, Department of Commerce.

ACTION: Final rule.

SUMMARY: In this final rule, the Bureau of Industry and Security (BIS) makes changes to the Syria export control measures under the Export Administration Regulations (EAR), consistent with Executive Order (E.O.) 14312, Providing for the Revocation of Syria Sanctions, which directed the removal of sanctions on Syria. This final rule relaxes the EAR's existing restrictions on exports and reexports to Syria of items subject to the EAR by making the following changes: revising certain restrictive license application review policies that had applied to most items subject to the EAR to be more favorable; expanding existing license exceptions to apply to Syria; and adding new license exceptions for Syria, including for EAR99 items.

DATES: This rule is effective September 2, 2025.

FOR FURTHER INFORMATION CONTACT: For questions on this final rule, contact Benjamin Barron, Supervisory Export Policy Analyst, Human Rights and Embargoes Division, Bureau of Industry and Security, Department of Commerce, Phone: 202-482-4252, Email: HumanRights.Embargoes@bis.doc.gov.

SUPPLEMENTARY INFORMATION:

I. Background

A. Export Restrictions Regarding Syria Prior to This Final Rule

Section (5)(a)(1) of the Syria Accountability and Lebanese Sovereignty Restoration Act of 2003 (Pub. L. 108-175) (the SAA), requires the Department of Commerce to prohibit the export to Syria of all items (commodities, software, and technology) that are specified on the Commerce Control List (CCL), supplement no. 1 to part 774 of the EAR. The SAA also directed the President to select at least two additional restrictions from a set of six enumerated restrictions. One of these restrictions is a prohibition on the export and reexport to Syria of products of the United States other than food and medicine, which are items that are subject to the EAR but not specified on the CCL i.e., EAR99 items. See section 5(a)(2)(A) of the SAA. In E.O. 13338 of May 11, 2004, Blocking Property of Certain Persons and Prohibiting the Export of Certain Goods to Syria, the E.O. that implemented the SAA, President George W. Bush selected the prohibition set forth in section 5(a)(2)(A) of the SAA on the export of EAR99 items apart from food and medicine.

Pursuant to section 5(b) of the SAA, the application of the aforementioned restrictions may be waived upon a determination by the President that it is in the national security interest of the United States to do so and the submission of a report containing the reasons for such a determination to the appropriate congressional committees. Additionally, as part of E.O. 13338, the President exercised national security waiver authority pursuant to section 5(b) of the SAA and waived restrictions otherwise required by the SAA, thereby allowing for the case-by-case licensing by BIS of certain specified categories of export and reexport transactions involving items on the CCL. Further, in E.O. 13338, the President delegated authority to issue future waivers to the Secretary of State.

Pursuant to E.O. 13338, BIS added General Order No. 2 to the EAR (specifically, in supplement no. 1 to part 736) as part of a May 14, 2004, final rule (69 FR 26766) that amended the EAR to reflect the new export restrictions on Syria. As set forth in § 746.9 (Syria) and General Order No. 2, BIS imposed export controls and adopted a restrictive license application review policy (a general policy of denial) on exports and reexports to Syria of nearly all items subject to the EAR except for EAR99 food and medicine.

In December 2011, to facilitate compliance, BIS amended the EAR in a final rule by moving the substantive provisions setting forth the controls for exports and reexports to Syria from General Order No. 2 to a revised § 746.9 and retaining the waiver provisions of General Order No. 2 in supplement no. 1 to part 736 (76 FR 77115; Dec. 12, 2011). In June 2013, to address foreign policy concerns raised by the Syrian civil war, then-Secretary of State John Kerry issued a waiver of the SAA's export restrictions to permit items for the support of the Syrian people. BIS implemented this waiver in § 746.9(c)(2) of the EAR by adding items necessary for the support of the Syrian people as a new category of items subject to case-by-case licensing. See 78 FR 43972 (July 23, 2013).

Additionally, since 2013, Syria has been subject to export control restrictions under the Chemical and Biological Weapons Control and Warfare Elimination Act of 1991 (CBW Act). Syria was made subject to an initial round of export and reexport restrictions on items controlled under the EAR for national security reasons in September 2013 following the State Department's August 2, 2013, determination under the CBW Act that the Syrian Government had used chemical weapons in violation of international law or lethal chemical weapons against its own nationals. See section 307(a)(5) of the CBW Act and the Department of State's September 10, 2013, Federal Register notice (78 FR 55326). In December 2013, the State Department rendered Syria subject to additional export and reexport restrictions that extended the scope of items to most items subject to the EAR. See section 307(b)(2)(C) of the CBW Act and the Department of State's December 10, 2013, Federal Register notice (78 FR 74218).

B. Basis for Changes to Export Control Measures for Syria Made in This Final Rule

The President announced his intention to lift sanctions against Syria on May 13, 2025, and on June 30, 2025, determined that it was in the national security and foreign policy interests of the United States to remove sanctions, restrictive export controls, and other forms of restrictions on Syria in E.O. 14312. The President's announcement and issuance of E.O. 14312 reflect the U.S. Government's commitment to supporting a Syria that is stable, unified, and at peace with itself and its neighbors.

In section 6 of E.O. 14312 the President waived the application of section 5(a)(1) of the SAA with respect to items on the CCL and section 5(a)(2)(A), with respect to the export of items subject to the EAR apart from EAR99 food and medicine. Additionally, section 7 of the E.O. waived the sanctions imposed under sections 307(a)(5) and 307(b)(2)(C) of the CBW Act that had imposed restrictions on the export and reexport to Syria of items subject to the EAR.

In this final rule, BIS makes changes to the Syria export control measures in § 746.9 of the EAR consistent with E.O. 14312, in which the President waived export restrictions that had been required under the SAA and the CBW Act. BIS in this final rule is also removing General Order No. 2 to part 746 from the EAR in light of the President's termination of the national emergency declared in E.O. 13338 and revocation of that E.O. The actions taken by BIS in this final rule support critical economic activity and stabilization efforts outlined in E.O. 14312 and align with the U.S. Government's broader objective of promoting peace, economic security, and prosperity in Syria.

BIS's regulatory measures in this final rule also complement those taken recently by the U.S. Department of the Treasury, Office of Foreign Assets Control (OFAC) to remove certain sanctions on Syria. Pursuant to E.O. 14312, OFAC removed the Syrian Sanctions Regulations, 31 CFR part 542 (SySR), from the Code of Federal Regulations on August 26, 2025, (90 FR 41505). E.O. 14312 further revokes six Executive Orders which form the foundation of the Syria sanctions program and terminates the national emergency underlying those Executive Orders. Persons designated solely pursuant to these orders have been removed from OFAC's List of Specially Designated Nationals and Blocked Persons (SDN List). Certain persons, including Bashar al-Assad and other destabilizing regional actors, remain on the SDN List due to their designation under separate sanctions authorities. These changes follow Syria General License 25 of May 23, 2025, “Authorizing Transactions Prohibited by the Syrian Sanctions Regulations or Involving Certain Blocked Persons,” and the Department of State's related waiver of the Caesar Syria Civilian Protection Act on May 23, 2025, that generally authorize transactions with the Government of Syria and certain Syria SDNs that would otherwise be prohibited under the SySR as well as various other sanctions authorities.

As a general matter, E.O. 14312 does not authorize or otherwise provide relief to Bashar al-Assad or his associates, to ISIS or other terrorist organizations, human rights abusers, or other persons that threaten the peace, security, or stability of the United States, Syria, and its neighbors. Notably, certain individuals and entities that have participated in or otherwise supported malign and destabilizing actions in Syria, including by supporting the former regime of Bashar al-Assad, continue to be designated on the SDN List and transactions involving these persons and entities may remain subject to license requirements from BIS pursuant to § 744.8 of the EAR.

C. Overview of This Final Rule

In this final rule, BIS makes changes to the export control measures for Syria under the EAR. The three sets of changes being made are described in section II as follows:

A. Addition of new or expanded license exception eligibility for exports and reexports to Syria;

B. Adoption of more permissive license review policies for exports and reexports to Syria; and

C. Other conforming and streamlining updates, including removal of provisions that are obsolete, e.g., General Order No. 2.

II. Amendments to the EAR

Specific changes to the EAR that are being made by this final rule are as follows:

A. Addition of New or Expanded License Exception Eligibility for Exports and Reexports to Syria

This final rule expands the eligibility of EAR license exceptions for Syria by adding a new license exception for Syria called License Exception Syria Peace and Prosperity (SPP) under § 740.5, amending the scope of existing License Exception Consumer Communications Devices (CCD) under § 740.19 to add Syria to the country scope, and making additional paragraphs of existing license exceptions available for exports and reexports to Syria. Additional license exception eligibility will authorize exports and reexports to Syria under the EAR consistent with U.S. national security and foreign policy interests and align with the E.O. 14312's objective to support peace, stability, security, and prosperity in Syria.

1. Changes to part 740 (License exceptions), to add new or expanded license exception eligibility for exports and reexports to Syria.

i. Addition of new License Exception Syria Peace and Prosperity (SPP). In § 740.5, currently reserved, this final rule changes the section to add License Exception SPP. New License Exception SPP will authorize exports and reexports to Syria of all items designated “EAR99” subject to the terms and conditions therein and the general restrictions set forth under § 740.2 of the EAR. In § 740.5(a) (Scope) of License Exception SPP, this final rule specifies that this license exception will overcome license requirements for the export or reexport of all items designated “EAR99.” Items designated “EAR99” are items subject to the EAR but not specifically described on the CCL in an ECCN.

In § 740.5(b) (Restrictions), this final rule adds this paragraph to specify that License Exception SPP does not authorize exports or reexports prohibited under a part 744 end-use or end-user control, including under § 744.8 for transactions involving persons designated on OFAC's SDN List with certain identifiers specified under § 744.8(a)(1), unless authorized under an OFAC specific license or general license or are exempted under OFAC's regulations.

This final rule as a conforming change adds a reference to License Exception SPP in § 746.9(b)(1) to specify that it is an available license exception for Syria, provided that the export or reexport is not otherwise restricted under § 740.2 and meets all the terms and conditions of License Exception SPP.

ii. Expansion of existing License Exception CCD to add Syria to the country scope. In § 740.19 Consumer Communications Devices (CCD), this final rule revises this section to add Syria as an eligible destination under the terms of § 740.19(a). In § 740.19(b) (Eligible commodities and software), this final rule revises this paragraph to indicate that all commodities and software described in § 740.19(b) are eligible for export or reexport to Syria pursuant to the terms of § 740.19. In § 740.19(c)(1) (Organizations), which establishes eligible and ineligible organizations for transactions pursuant to the terms of CCD, this final rule modifies this paragraph to indicate that CCD does not restrict eligibility to any end user in Syria. However, CCD cannot authorize transactions that require a license under part 744 of the EAR or with persons that are sanctioned under programs administered by another agency, including the Departments of State and the Treasury. For example, License Exception CCD may not be used to export consumer communications devices to persons designated on OFAC's SDN List with certain identifiers specified under § 744.8(a)(1), unless authorized by OFAC or exempt. Notably, members of the former regime of Bashar al-Assad may be designated on the SDN List under various program identifiers.

This final rule as a conforming change adds a reference to License Exception CCD in § 746.9(b)(8) to specify that it is an available license exception for Syria, provided that the transaction is not otherwise restricted under § 740.2 and meets all the applicable terms and conditions of License Exception CCD.

iii. Revision to License Exception AVS to specify that only EAR99 and AT-only ECCNs are eligible under License Exception AVS. In § 740.15 (License Exception AVS, for Aircraft, Vessels and Spacecraft) under paragraph (b)(4), this final rule revises this paragraph to ensure that only items designated as EAR99 or controlled on the CCL only for anti-terrorism reasons are eligible to be sent to Syria under paragraph (b) of License Exception AVS. This revised text is intended to ensure that no equipment and spare parts for a vessel or aircraft that could make a significant contribution to the military potential of Syria, including its military logistics capability, or could enhance Syria's ability to support acts of international terrorism, is authorized to Syria without the required notification to Congress, consistent with 50 U.S.C. 4813(c)(2). This final rule also adds a Note to paragraph (b)(4) to specify that for purposes of paragraph (b)(4), ECCNs 2B999, 3A991, 4A994, 5A992 (except for .z), and 9A991 are treated as ECCNs controlled exclusively for AT reasons.

This final rule as a conforming change adds a reference to License Exception AVS in §§ 746.9(b)(4) to specify that it is an available license exception for Syria, provided that the transaction is not otherwise restricted under § 740.2 and meets all the applicable terms and conditions of License Exception AVS.

2. Revising the general restriction on the use of EAR license exceptions for Syria in § 746.9(b) to allow for additional license exception eligibility for exports and reexports to Syria. In § 746.9(b) (License exceptions), this final rule revises this paragraph to expand the scope of available license exceptions for exports and reexports to Syria and renumbers the paragraphs as follows:

i. Section 746.9(b)(1)—Newly added License Exception SPP eligibility paragraph for Syria. This final rule replaces the reference to License Exception Temporary imports, exports, reexports, and transfers (in-country) (TMP) in (b)(1) with a reference to new License Exception Syria Peace and Prosperity (SPP) pursuant to new § 740.5 of the EAR.

ii. Section 746.9(b)(2)—Newly redesignated and expanded License Exception TMP eligibility paragraph for Syria. Prior to this final rule, TMP for Syria was available solely for items for use by the news media (see § 740.9(a)(9)). This final rule expands the scope of TMP's eligibility for Syria-destined items. Specifically, it adds certain technology pursuant to the provisions in § 740.9(a)(3), shipping containers pursuant to the provisions § 740.9(a)(7), certain exports to a U.S. person's foreign subsidiary, affiliate, or facility abroad pursuant to § 740.9(a)(10), and certain personal protective “equipment” pursuant to the provisions of § 740.9(a)(11)(ii) of the EAR. In connection with this expansion, BIS makes conforming changes, including by placing the contents of TMP-related text in (b)(2).

iii. Section 746.9(b)(3)—Newly added License Exception RPL eligibility paragraph for Syria. This final rule replaces the reference to Technology and software—unrestricted (TSU) in (b)(3) and adds License Exception Servicing and replacement of parts and equipment (RPL) pursuant to the provisions of § 740.10(a) of the EAR. This final rule states that RPL is not available for exports or reexports that support the Syrian police, military, or intelligence end users or end uses pursuant to supplement no. 2 to part 742. In practical terms, this means that the license exception may not be used for items on the CCL when destined to Syrian police, military, or intelligence end users or end uses.

iv. Section 746.9(b)(4)—Newly redesignated and expanded License Exception GOV eligibility paragraph for Syria. This final rule broadens the eligibility for exports and reexports to Syria under § 740.11, Governments, international organizations, international inspections under the Chemical Weapons Convention, and the International Space Station (GOV) to enable operations of certain cooperating governments and inspections under the Chemical Weapons Convention. As a conforming change, it replaces the reference to License Exception Baggage (BAG) in (b)(4) with the reference to GOV formerly for personal or official use by personnel and agencies of the U.S. Government as set forth in § 740.11(b)(2) (formerly in § 746.9(b)(2)). Specifically, the availability of the license exception is broadened by retaining the U.S. Government authorization for Syria under paragraph (b)(2), but revises the text to specify that all of the authorizing paragraphs under § 740.11(b)(2), including (b)(2)(iii)-(vii), are available for Syria, not just § 740.11(b)(2)(i) and (ii).

The revision to this text will clarify that exports or reexports made for or on behalf of a department or agency of the U.S. Government pursuant to § 740.11(b)(2)(iii), items exported at the direction of the U.S. Department of Defense or the Department of Energy pursuant to § 740.11(b)(2)(iv), items sold, leased, or loaned by the U.S. Department of Defense to a foreign country or international organization pursuant to the Arms Export Control Act or the Foreign Assistance Act of 1961 pursuant to § 740.11(b)(2)(v), transfer of technology in furtherance of a contract between the exporter and an agency of the U.S. Government, if the contract provides for such technology and the technology is not “development” or “production” technology for “600 series” items pursuant to § 740.11(b)(2)(vi), microelectronics items in furtherance of a contract between the exporter or reexporter and a department or agency of the U.S. Government, if the contract provides for such export or reexport of the microelectronics item by the exporter or reexporter pursuant to § 740.11(b)(2)(vii), and exports or reexports to “Cooperating Governments and the North Atlantic Treaty Organization” pursuant to the provisions of § 740.11(c) and items for international inspections under the Chemical Weapons Convention pursuant to § 740.11(d) of the EAR are authorized for Syria under License Exception GOV.

v. Section 746.9(b)(5)—Newly redesignated and expanded License Exception TSU eligibility paragraph for Syria. This final rule replaces the reference to AVS in (b)(5) with the reference to License Exception Technology and software—unrestricted (TSU). Prior to this final rule, BIS had allowed under this license exception operation technology and software, sales technology, and software updates pursuant to the terms TSU in § 740.13(a), (b), or (c) formerly in (b)(3). This final rule broadens the eligibility for Syria by adding copies of technology previously authorized for export to the same recipient pursuant to § 740.13(g) of the EAR.

vi. Section 746.9(b)(6)—Newly redesignated, but not expanded, License Exception BAG eligibility paragraph for Syria. This final rule moves the reference to BAG for exports of personally-owned items by individuals leaving the United States as personal baggage pursuant to the terms of § 740.14(a) through (d) formerly in (b)(4) to new section (b)(6). The scope and applicability of License Exception BAG for Syria as set out in § 740.14 remains unchanged.

vii. Section 746.9(b)(7)—Newly redesignated and expanded License Exception AVS eligibility paragraph for Syria. Prior to this final rule, License Exception AVS was only available for foreign flagged/owned/operated aircraft reexported to Syria on temporary sojourn pursuant to the terms of § 740.15(a)(4). This final rule broadens the eligibility for Syria to authorize vessels and U.S. flagged aircraft. This final rule implements this change by expanding License Exception AVS eligibility to exports of U.S.-registered civil aircraft and vessels and temporary reexports of U.S. and foreign registered civil aircraft and vessels to Syria on temporary sojourn pursuant to the terms of § 740.15(a)-(d) of the EAR. BIS notes that the expansion of the availability of this license exception is not intended to authorize any operations by U.S. registered civil aircraft in Syria pursuant to regulatory regimes other than the EAR, e.g., rules or regulations issued by the Federal Aviation Administration (FAA). As a conforming change, this final rule moves the reference to License Exception AVS from (b)(5) into new paragraph (b)(7).

Significantly, License Exception AVS is available subject to the restriction that the transaction will not support the Syrian police, military, or intelligence end users and end uses pursuant to supplement no. 2 to part 742. As described above, License Exception AVS is also being amended to ensure that equipment and spare parts are only authorized to Syria—including to aircraft registered in Syria, or controlled, leased, or chartered by a Syrian national—under AVS if they are designated as EAR99 or controlled on the CCL for anti-terrorism reasons only. Other equipment and spare parts destined to Syria must be licensed by BIS and will be reviewed consistent with the requirements in 50 U.S.C. 4813(c).

viii. § 746.9(b)(8)—Newly added License Exception CCD eligibility paragraph for Syria. This final rule adds new paragraph (b)(8) for the export or reexport of certain consumer communications devices pursuant to the provisions of CCD in § 740.19.

B. Adoption of More Permissive License Review Policies for Exports and Reexports to Syria

In § 746.9(c) (Licensing policy), this final rule revises licensing policies to align them with the Administration's policy objectives as set forth in the President's May 13, 2025, announcement and in E.O. 14312 by adopting more permissive license review policies under paragraphs (c)(1) and (2). These more permissive license review policies will allow for additional exports and reexports to be approved for Syria under the EAR that are consistent with U.S. national security and foreign policy interests and align with the E.O. 14312's objective to support peace, stability, security, and prosperity in Syria.

1. Adoption of presumption of approval licensing policy for certain end uses. In § 746.9(c)(1), this final rule revises the case-by-case policy for certain CCL categories of items to adopt a presumption of approval for a broad range of commercial end uses to support economic and business development in Syria and to support the Syrian people.

2. Adoption of case-by-case licensing policy for other end uses. In § 746.9(c)(1), this final rule removes the general policy of denial that had applied to most categories of CCL items consistent with the SAA's restrictions apart from the categories of items subject to case-by-case review prior to this final rule under § 746.9(c)(2) due to the exercise of waiver authority. Items on the CCL will now be reviewed under the presumption of approval as described in paragraph (c)(1) or on a case-by-case basis as described in paragraph (c)(2) to determine whether approval would be in the national security and foreign policy interests of the United States. Specifically, items on the CCL that will be reviewed under the presumption of approval as described in paragraph (c)(1) are those that support economic and business development in Syria or that support the Syrian people, including through the improvement or maintenance of telecommunications, water supply and sanitation, power generation, aviation, or other civil services that support peace and prosperity in Syria without making a significant contribution to the military potential of Syria or the ability of Syria to support acts of international terrorism.

Items on the CCL will also be reviewed according to the license review policies for the items set out in relevant sections of part 742, with the exception of § 742.9, which is superseded by § 746.9, as described in § 742.9(e). All end-use and end-user controls set out in part 744 of the EAR, as applicable, will continue to apply. Additionally, this final rule does not make changes to provisions of the EAR that specify requirements that are based upon Syria's designation as a State Sponsor of Terrorism.

When it is determined that an export or reexport could make a significant contribution to the military potential of Syria, including its military logistics capability, or could enhance Syria's ability to support acts of international terrorism, the Secretaries of State and Commerce will notify the Congress 30 days prior to issuance of a license, consistent with 50 U.S.C. 4813(c)(2). Consistent with the Secretary of State's December 28, 1993, determination, and as described in supplement no. 2 to part 742 of the EAR, the export of certain items destined to Syrian military, police, intelligence or other sensitive end-users and end uses will trigger this notification requirement. Exports of EAR99 items or items controlled only for anti-terrorism reasons generally will not trigger this requirement.

C. Other Conforming and Streamlining Updates, Including Removal of Provisions That Are Obsolete, e.g., General Order No. 2

1. Removal of obsolete references to the SAA and adding a cross reference to see § 746.9 for Syria. In § 746.1(a)(3) (Syria), this final rule revises this paragraph to remove all references to the SAA and replaces the language with a simple cross reference to § 746.9 of this part, which sets forth the specific license requirements, licensing policy and license exceptions applicable to Syria.

2. Removal of General Order No. 2. In supplement no. 1 to part 736 (General Orders) under paragraph (b) (General Order No. 2), this final rule removes General Order No. 2 and reserves paragraph (b). This final rule also makes the following three conforming changes in other parts of the EAR:

In § 746.1(a)(3) (Syria), this final rule removes the reference to General Order No. 2.

In § 746.9 introductory text, this final rule removes the reference to General Order No. 2. and the rest of the introductory text to § 746.9 that referred to legal authorities that are no longer applicable. Lastly, in § 746.9, this final rule deletes the Note to § 746.9 that provided a cross reference to General Order No. 2.

3. Removal of reference to certain items not subject to the EAR being outside the scope of § 746.9 license requirements. In § 746.9(c)(3), this final rule removes this paragraph because it is not needed. The limitation is already addressed under the exclusions from the scope of the EAR under part 734 of the EAR as well as under § 746.9(a) (License requirements), which specifies that the license requirements for Syria apply to items “subject to the EAR” as described in paragraph (a).

Export Control Reform Act of 2018

On August 13, 2018, the President signed into law the John S. McCain National Defense Authorization Act for Fiscal Year 2019, which included ECRA (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. BIS has examined the impact of this rule as required by Executive Orders (E.O.) 12866 and 13563, which direct agencies to assess all costs and benefits of available regulatory alternatives and, if regulation is necessary, to select regulatory approaches that maximize net benefits (e.g., potential economic, environmental, public, health, and safety effects, distributive impacts, and equity). Pursuant to E.O. 12866, this final rule has been determined to be a “significant regulatory action” and has been reviewed by the Office of Information and Regulatory Affairs. This rule is exempt from the requirements of E.O. 14192, because it is being issued with respect to a national security function of the United States, per section 5(a) of E.O. 14192.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves the following OMB-approved collections of information subject to the PRA:

• 0694-0088, “Simple Network Application Process and Multipurpose Application Form,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these regulatory changes related to Syria under the EAR that involve the expanded availability of license exceptions will result in a reduction of 414 license applications submitted annually to BIS. The reduced burden falls within the existing estimates associated with these control numbers and should not be used as an estimate for the number of anticipated future exports and reexports to Syria under these license exceptions because the expanded license exception availability will encourage exporters and reexporters who may have avoided doing business with Syria because of the restrictive export controls that had been in place under the EAR. Additional information regarding these collections of information—including all background materials—can be found at https://www.reginfo.gov/public/do/PRAMain by using the search function to enter either the title of the collection or the OMB Control Number.

3. This rule does not contain policies with Federalism implications as that term is defined under E.O. 13132.

4. Pursuant to section 1762(a) of ECRA (50 U.S.C. 4821), this action is exempt from the Administrative Procedure Act (APA) (5 U.S.C. 553) requirements for notice of proposed rulemaking, opportunity for public participation, and delay in effective date.

5. Because neither the Administrative Procedure Act nor any other law requires that notice of proposed rulemaking and an opportunity for public comment be given for this rule, the analytical requirements of the Regulatory Flexibility Act (5 U.S.C. 601 et seq.) are not applicable. Accordingly, no Final Regulatory Flexibility Analysis is required, and none has been prepared.

List of Subjects

15 CFR Part 736

Exports.

15 CFR Part 740

Administrative practice and procedure, Exports and Reporting and recordkeeping requirements.

15 CFR Part 746

Exports, Reporting and recordkeeping requirements.

Accordingly, parts 736, 740, and 746 of the Export Administration Regulations (15 CFR parts 730 through 774) is amended as follows:

PART 736—GENERAL PROHIBITIONS

1. The authority citation for part 736 is revised to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; Notice of November 7, 2024, 89 FR 88867 (November 8, 2024); Notice of May 7, 2025, 90 FR 19619 (May 9, 2025).

2. Supplement no. 1 to part 736 is amended by removing and reserving paragraph (b).

PART 740—LICENSE EXCEPTIONS

3. The authority citation for part 740 is revised to read as follows:

Authority: 50 U.S.C. 4801-4852; 50 U.S.C. 4601 et seq.; 50 U.S.C. 1701 et seq.; 22 U.S.C. 7201 et seq.; E.O. 13026, 61 FR 58767, 3 CFR, 1996 Comp., p. 228.

4. Add section 740.5 to read as follows:

§ 740.5 License Exception Syria Peace and Prosperity (SPP)

(a) Scope. License Exception SPP authorizes the export or reexport of all items subject to the EAR designated EAR99 to Syria.

(b) Restrictions. This license exception does not authorize exports or reexports, which otherwise require a license under any part 744 end-use or end-user control, including under § 744.8 for transactions involving persons designated on OFAC's Specially Designated Nationals and Blocked Persons List with certain identifiers specified under § 744.8(a)(1), unless authorized by OFAC or exempt.

5. Section 740.15 is amended by revising paragraph (b)(4) to read as follows:

§ 740.15 Aircraft, vessels and spacecraft (AVS).

* * * * *

(b) * * *

(4) Cuba and Syria. Only items designated as EAR99 or controlled on the Commerce Control List (CCL) (supplement no. 1 to part 774 of the EAR) solely for anti-terrorism reasons (i.e., anti-terrorism must be the only reason for control that applies to the item as set forth in the Export Control Classification Number (ECCN) that controls the item) are eligible for export or reexport to Cuba or Syria pursuant to this paragraph (b).

Note to paragraph (b)(4): For purposes of paragraph (b)(4), ECCNs 2B999, 3A991, 4A994, 5A992 (except for .z), and 9A991 are treated as ECCNs controlled exclusively for AT reasons.

* * * * *

6. Section 740.19 is amended by:

a. Revising paragraph (a);

b. Revising the paragraph (b) introductory text; and

c. Revising the first sentence of paragraph (c)(1)(i).

The revisions read as follows:

§ 740.19 Consumer Communications Devices (CCD).

(a) Authorizations. This section authorizes the export, reexport, or transfer (in-country) of commodities and software to Belarus, Cuba, Russia, and Syria subject to the requirements stated in this section. This section does not authorize U.S.-owned or controlled entities in third countries to engage in reexports of foreign produced commodities to Cuba for which no license would be issued by the Department of the Treasury pursuant to 31 CFR 515.559.

(b) Eligible commodities and software. Commodities and software in paragraphs (b)(1) through (8) of this section are eligible for export, reexport, or transfer (in-country) under this section to and within Belarus, Cuba, Russia, and Syria. Commodities and software in paragraphs (b)(9) through (18) of this section are eligible for export reexport, or transfer (in-country) to Cuba or Syria only.

* * * * *

(c) * * *

(1) * * *

(i) The license exception in this section may be used to export, reexport, or transfer (in-country) eligible commodities and software to Syria or to and for the use of independent non-governmental organizations in Belarus, Cuba, or Russia.

* * * * *

PART 746—EMBARGOES AND OTHER SPECIAL CONTROLS

7. The authority citation for part 746 is revised to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; Presidential Determination 2003-23, 68 FR 26459, 3 CFR, 2004 Comp., p. 320; Presidential Determination 2007-7, 72 FR 1899, 3 CFR, 2006 Comp., p. 325; Pub. L. 118-50; E.O. 14312.

8. Section 746.1 is amended by revising paragraph (a)(3) to read as follows:

§ 746.1 Introduction.

(a) * * *

(3) Syria. Section 746.9 of this part sets forth the specific license requirements, licensing policy and license exceptions applicable to Syria.

* * * * *

9. Section 746.9 is amended by:

a. Removing the introductory text to the section;

b. Revising paragraphs (b) and (c); and

c. Removing the Note to § 746.9.

The revisions read as follows:

§ 746.9 Syria.

* * * * *

(b) License Exceptions. No License Exceptions to the license requirements set forth in paragraph (a) of this section are available for exports or reexports to Syria, except the following:

(1) SPP for the export or reexport of “EAR99” items pursuant to § 740.5;

(2) TMP for technology pursuant to the provisions in § 740.9(a)(3), containers pursuant to the provisions in § 740.9(a)(7), items for use by the news media pursuant to § 740.9(a)(9), exports to a U.S. person's foreign subsidiary, affiliate, or facility abroad pursuant to § 740.9(a)(10), and personal protective “equipment” pursuant to the provisions of § 740.9 (a)(11)(ii) of the EAR;

(3) RPL pursuant to the provisions of § 740.10(a) of the EAR, provided that such exports will not support the Syrian police, military, or intelligence sensitive end users or uses pursuant to supplement no. 2 to 742;

(4) GOV for exports or reexports under the United States Government authorization pursuant to § 740.11(b)(2), exports, reexports and transfers (in country) to “Cooperating Governments and the North Atlantic Treaty Organization” pursuant to the provisions of 740.11(c), and items for international inspections under the Chemical Weapons Convention pursuant to 740.11(d) of the EAR;

(5) TSU for operation technology and software, sales technology, and software updates pursuant to the terms in § 740.13(a), (b), (c), and (g) of the EAR;

(6) BAG for exports of personally-owned items by individuals leaving the United States as personal baggage pursuant to the terms of § 740.14(a) through (d) of the EAR;

(7) AVS for temporary exports of U.S.-registered civil aircraft and vessels and temporary reexports of U.S. and foreign-registered civil aircraft and vessels to Syria on temporary sojourn pursuant to the terms of § 740.15(a) through (d) of the EAR provided that such export, reexport, or transfer (in-country) will not support the Syrian police, military, or intelligence end-users or end uses pursuant to Supp 2 to 742; and

(8) CCD for the export or reexport of consumer communications devices pursuant to the provisions in § 740.19.

(c) Licensing policy. (1) Presumption of approval licensing policy for certain commercial end uses and to support the Syrian people. License applications for exports and reexports of items on the CCL to Syria will be reviewed under a presumption of approval review policy for commercial end uses that support economic and business development in Syria or that support the Syrian people, including through the improvement or maintenance of telecommunications, water supply and sanitation, power generation, aviation, or other civil services that support peace and prosperity in Syria without making a significant contribution to the military potential of Syria or the ability of Syria to support acts of international terrorism.

(2) Case-by-case licensing policy. License applications for exports and reexports of items on the CCL to Syria that are not described in paragraph (c)(1) of this section will be reviewed on a case-by-case basis to determine whether the items will be used in a manner consistent with U.S. national security and foreign policy purposes, including to promote peace and prosperity in Syria.

Note 1 to paragraphs (c)(1) and (2): Items on the CCL will also be reviewed according to the license policies for the items set out in relevant sections of part 742 with the exception of items controlled for Anti-terrorism (AT). For AT items, see § 746.9(c). All end-use and end user controls set out in part 744 of the EAR will continue to apply.

Julia A. Khersonsky,
Deputy Assistant Secretary for Strategic Trade.

[FR Doc. 2025-16724 Filed 8-28-25; 11:15 am]

BILLING CODE 3510-33-P